DEPARTMENT OF JUSTICE

Antitrust Division

Notice Pursuant to the National Cooperative Research and Production Act of 1993—Alavita Callida Genomics

Notice is hereby given that, on August 23, 2005, pursuant to Section 6(a) of the National Cooperative Research and Production Act of 1993, 15 U.S.C. 4301 et seq. (“the Act”), Alavita/Callida Genomics (“Alavita/Callida”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Alavita, Inc., Mountain View, CA; and Callida Genomics, Inc., Sunnyvale, CA. The general area of Alavita/Callida's planned activity is to develop and demonstrate nanoscale barcodes for genome-wide SNP scoring.

Dorothy B. Fountain,
Deputy Director of Operations, Antitrust Division.

[FR Doc. 05-20137 Filed 10-5-05; 8:45 am]

BILLING CODE 4410-11-M